DEPARTMENT OF COMMERCE

International Trade Administration

[A-570-865]

Certain Hot-Rolled Carbon Steel Flat Products From the People's Republic of China: Final Results and Final No Shipments Determination of Antidumping Duty Administrative Review; 2010-2011

AGENCY: Import Administration, International Trade Administration, Department of Commerce.

SUMMARY: On August 1, 2012, the Department of Commerce (the “Department”) published the Preliminary Results of the 2010-2011 administrative review of the antidumping duty order on certain hot-rolled carbon steel flat products (“hot-rolled steel”) from the People's Republic of China (“PRC”). The period of review (“POR”) is November 1, 2010, through October 31, 2011. We gave interested parties an opportunity to comment on the Preliminary Results, but none were received. The final weighted-average dumping margin for the PRC-wide entity is listed in the “Final Results of Review” section below.

DATES: Effective Date: November 21, 2012.

FOR FURTHER INFORMATION CONTACT: Steven Hampton, AD/CVD Operations, Office 9, Import Administration, International Trade Administration, Department of Commerce, 14th Street and Constitution Avenue NW., Washington, DC 20230; telephone: (202) 482-0116.

SUPPLEMENTARY INFORMATION:

Background

On August 1, 2012, the Department published the Preliminary Results of the administrative review of the antidumping duty order on hot-rolled steel from the PRC.¹ We invited interested parties to comment on the Preliminary Results, but none were received. The Department has conducted this administrative review in accordance with section 751(a) of the Tariff Act of 1930, as amended (“the Act”).

¹ See Certain Hot-Rolled Carbon Steel Flat Products From the People's Republic of China: Preliminary Results of 2010-2011 Antidumping Duty Administrative Review and Intent To Rescind in Part, 77 FR 45576 (August 1, 2012) (“Preliminary Results”).

Scope of the Order

The merchandise subject to the order is certain hot-rolled carbon steel flat products. The product is currently classified under the Harmonized Tariff Schedule of the United States (“HTSUS”) subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by the order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although these HTSUS subheadings are provided for convenience and customs purposes, the written product description available in Antidumping Duty Order: Certain Hot-Rolled Carbon Steel Flat Products from the People's Republic of China, 66 FR 59561 (November 29, 2001), remains dispositive.

Final Determination of No Shipments

In the Preliminary Results, the Department preliminarily determined to rescind the review with respect to Baosteel ² because it had reported and submitted timely-filed certifications that it had no sales of subject merchandise to the United States during the POR.³ We stated, consistent with the recently announced refinement to its assessment practice in non-market economy (“NME”) cases, that the Department would not rescind the review in these circumstances but, rather, would complete the review with respect to Baosteel and issue appropriate instructions to U.S. Customs and Border Protection (“CBP”) based on the final results of the review. As stated above, we did not receive any comments on our Preliminary Results nor did we receive information from CBP indicating that there were reviewable transactions from Baosteel during the POR. Therefore, we continue to determine that Baosteel had no reviewable transactions of subject merchandise during the POR. Consistent with our “automatic assessment” clarification, the Department will issue appropriate instructions to CBP based on our final results.⁴

² Collectively, Baosteel Group Corporation, Shanghai Baosteel International Economic & Trading Co., Ltd., and Baoshan Iron & Steel Co., Ltd.

³ See Preliminary Results, 77 FR at 45577.

⁴ See Non-Market Economy Antidumping Proceedings: Assessment of Antidumping Duties, 76 FR 65694 (October 24, 2011) (“Assessment Practice Refinement”). See also the “Assessment” section of this notice, below.

PRC-Wide Entity

In the Preliminary Results, the Department noted that Hunan Valin Xiangtan Iron & Steel (“Hunan Valin”) does not have a separate rate, and that it is therefore under review as part of the PRC-wide entity.⁵ Although Hunan Valin reported that it had no sales of subject merchandise to the United States during the POR, the Department does not find that the PRC-wide entity, of which Hunan Valin is part, had no shipments during the POR. After issuing the Preliminary Results, the Department did not receive any comments from interested parties. Therefore, for these final results, in accordance with section 776(a) and (b) of the Act, and as explained in more detail in the Preliminary Results, the Department continues to find that because Angang Group International (“Angang”), as part of the PRC-wide entity, failed to submit any response to the Department's questionnaire it is appropriate to rely on the facts otherwise available to determine a margin for the PRC-wide entity and to assign to the PRC-wide entity the highest-rate and the only rate ever determined for the PRC-wide entity on the record of this proceeding, i.e., 90.83%.⁶

⁵ See Preliminary Results, 77 FR at 45578.

⁶ See Final Determination of Sales at Less Than Fair Value: Certain Hot-Rolled Carbon Steel Flat Products From the People's Republic of China, 66 FR 49632 (September 28, 2001).

Final Results of Review

The weighted-average dumping margins for the POR are as follows:

⁷ The PRC-wide entity includes, Angang; Bengang Steel Plates Co., Ltd.; Benxi Iron and Steel Group Co., Ltd.; Daye Special Steel Co., Ltd.; Dongbei Special Steel Group; Dongguang Bo Yunte Metal Co., Ltd.; Dongyang Global Strip Steel Co., Ltd.; Haverer Group Ltd.; Hebei Iron and Steel Int'l; Hunan Valin; Jinan Iron & Steel Co., Ltd.; Shenzhen Zhaoheng Specialty Steel Co.; Union Steel China; Xinyu Iron & Steel Co., Ltd., and Zhejiang Shenghua Steel Co., Ltd.

Exporter | Weighted-average margin
PRC-wide Entity ⁷ | 90.83%

Assessment

Upon issuance of the final results, the Department will determine, and CBP shall assess, antidumping duties on all appropriate entries. The Department intends to issue assessment instructions to CBP 15 days after the date of publication of the final results of review. The Department recently announced a refinement to its assessment practice in NME cases. See Assessment Practice Refinement. Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.⁸

⁸ See Assessment Practice Refinement, 76 FR at 65694.

Cash Deposit Requirements

The following cash deposit requirements will be effective upon publication of the final results of this administrative review for all shipments of the subject merchandise from the PRC entered, or withdrawn from warehouse, for consumption on or after the publication date, as provided by section 751(a)(2)(C) of the Act: (1) For previously investigated or reviewed PRC and non-PRC exporters not listed above that have separate rates, the cash deposit rate will continue to be the exporter-specific rate published for the most recent period; (2) for all PRC exporters of subject merchandise which have not been found to be entitled to a separate rate, the cash deposit rate will be the PRC-wide rate of 90.83 percent; and (3) for all non-PRC exporters of subject merchandise which have not received their own rate, the cash deposit rate will be the rate applicable to the PRC exporters that supplied that non-PRC exporter. These deposit requirements, when imposed, shall remain in effect until further notice.

Notifications

This notice serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

This notice also serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i) of the Act and 19 CFR 351.213(d)(4).

Dated: November 13, 2012.
Ronald K. Lorentzen,
Acting Assistant Secretary for Import Administration.

[FR Doc. 2012-28313 Filed 11-20-12; 8:45 am]

BILLING CODE 3510-DS-P